DEPARTMENT OF COMMERCE

Foreign-Trade Zones Board

[B-30-2013]

Foreign-Trade Zone 225—Springfield, Missouri; Authorization of Production Activity; General Dynamics Ordnance and Tactical Systems Munitions Services (Demilitarization of Munitions); Carthage, Missouri

On April 3, 2013, the City of Springfield Airport Board, grantee of FTZ 225, submitted a notification of proposed production activity to the Foreign-Trade Zones (FTZ) Board on behalf of General Dynamics Ordnance and Tactical Systems Munitions Services, within Site 3 of FTZ 225, in Carthage, Missouri.

The notification was processed in accordance with the regulations of the FTZ Board (15 CFR part 400), including notice in the Federal Register inviting public comment (78 FR 22512, 4-16-2013). The FTZ Board has determined that no further review of the activity is warranted at this time. The production activity described in the notification is authorized, subject to the FTZ Act and the Board's regulations, including Section 400.14.

Dated: August 1, 2013.
Andrew McGilvray,
Executive Secretary.

[FR Doc. 2013-19346 Filed 8-8-13; 8:45 am]

BILLING CODE 3510-DS-P